DEPARTMENT OF THE INTERIOR

National Park Service

Notice of Inventory Completion: University of Denver Department of Anthropology and Museum of Anthropology, Denver, CO; Correction

AGENCY: National Park Service, Interior.

ACTION: Notice; correction.

Notice is here given in accordance with the Native American Graves Protection and Repatriation Act (NAGPRA), 25 U.S.C. 3003, of the completion of an inventory of human remains and associated funerary objects in the possession of the University of Denver Department of Anthropology and Museum of Anthropology, Denver, CO.

This notice is published as part of the National Park Service's administrative responsibilities under NAGPRA, 25 U.S.C. 3003 (d)(3). The determinations in this notice are the sole responsibility of the museum, institution, or Federal agency that has control of the cultural items. The National Park Service is not responsible for the determinations in this notice.

This notice corrects the cultural affiliation of the human remains and associated funerary objects that were described in a Notice of Inventory Completion published in the Federal Register of October 26, 2001 (FR Doc 01-27050, pages 54284-54285). After further consultation of museum records, officials of the University of Denver Department of Anthropology and Museum of Anthropology have determined that the human remains and associated funerary objects referenced in the notice have a cultural affiliation that can be narrowed.

After October 26, 2001, museum officials contracted a research archeologist and conducted additional consultations with representatives of the Hopi Tribe of Arizona; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of Sandia, New Mexico; Pueblo of Santa Ana, New Mexico; Pueblo of Santa Clara, New Mexico; Pueblo of Taos, New Mexico; Pueblo of Tesuque, New Mexico; Pueblo of Zia, New Mexico; and Zuni Tribe of the Zuni Reservation, New Mexico. The museum also sent reports and solicited feedback via telephone and correspondence with representatives from the Colorado River Indian Tribes of the Colorado River Indian Reservation, Arizona and California; Pueblo of Picuris, New Mexico; Pueblo of San Felipe, New Mexico; Pueblo of San Ildefonso, New Mexico; Pueblo of Santo Domingo, New Mexico; and Ysleta del Sur Pueblo of Texas.

The October 26, 2001, notice, pursuant to 43 CFR 10.2 (e), identified a relationship of shared group identity that could be reasonably traced between the Native American human remains and associated funerary objects and the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Ohkay Owingeh, New Mexico (formerly the Pueblo of San Juan); Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico. After further consideration of the evidence, museum officials have determined that the evidence and research at the Pettit Site point to a cultural affiliation that is more specific to the Zuni Tribe of the Zuni Reservation, New Mexico.

In the Federal Register of October 26, 2001, paragraph numbers 5-8 are corrected by substituting the following paragraphs:

The Pettit Site, 29VA1 (LA 59484), is in Togeye Canyon, which opens onto the El Morro Valley just a few kilometers southeast of Ramah, NM, near the Zuni Reservation. The Pueblo consists of at least 154 rooms (including the presence of kivas and community kivas) and has been dated to A.D. 1190-1250. The Pettit Site is generally considered to be from the PIII period site (circa A.D. 1150-1350), also known in some chronologies as the Reorganization period. Both terms refer to a time period just prior to the large population aggregations of the PIV and Aggregation periods on the Colorado Plateau.

The Pettit Site reflects the social tension and struggle documented for Pueblo III society in Pueblo ethnography and historiography. Researchers believe that hierarchies, such as are evident at the Pettit Site, led to subsequent changes in the Zuni area, specifically, population aggregation at large and planned pueblos after A.D. 1275 (Dr. Keith Kintigh and Dr. Dean Saitta).

The Pettit Site likely played a key role in the economic and ideological development of ancestral Zuni society. First, the site occupies a prominent landform in the canyon. It is also noted that petroglyphs of stick-figure humans with arms pointing downward are found on the top of Pettit Mesa. Turquoise, a presumed ritual commodity, is found in rooms surrounding a kiva at the extreme west end of the mesa top ruin. The presence of large community kivas at the Pettit Site suggests architectural continuity between Chacoan and Reorganization period material landscapes in the northern Southwest, as noted in several places in southwestern Colorado and the Zuni area. Dr. Saitta further suggests that ideological continuity is found in the D-shaped kivas at the Pettit Site, coupled with its location on a prominent landform, which is a context identical to that of many early Chacoan great houses in the Zuni area.

Based on the preponderance of the evidence, including archeology, architecture, oral traditions, material culture, and expert opinion, officials of the University of Denver Department of Anthropology and Museum of Anthropology reasonably believe the human remains from the Pettit Site are Native American and are ancestral to the Zuni. This conclusion is supported by tribal consultation, who largely supported a Zuni affiliation, and by Drs. Saitta and Kintigh. The Pueblo of Acoma NAGPRA Committee demonstrated cultural affiliation to the El Morro Canyon area, especially sacred trails and pilgrimage areas. This oral testimony was supported by Dr. Kintigh, who recognized El Morro Valley as a “place where Acoma and Zuni interests overlap.” However, the Pueblo of Acoma NAGPRA Committee supports a Zuni tribal affiliation for the Petitt archeological site. Descendants of the Zuni are members of the Zuni Tribe of the Zuni Reservation, New Mexico.

Officials of the University of Denver Department of Anthropology and Museum of Anthropology have determined that, pursuant to 25 U.S.C. 3001 (9-10), the human remains described in the October 26, 2001 notice represent the physical remains of a minimum of eight individuals of Native American ancestry. Officials of the University of Denver Department of Anthropology and Museum of Anthropology also have determined that, pursuant to 25 U.S.C. 3001 (3)(A), the 178 objects described in the October 26, 2001 notice are reasonably believed to have been placed with or near individual human remains at the time of death or later as part of the death rite or ceremony. Lastly, officials of the University of Denver Department of Anthropology and Museum of Anthropology have determined that, pursuant to 25 U.S.C. 3001 (2), by a preponderance of the evidence, a relationship of shared group identity can be reasonably traced between the Native American human remains and associated funerary objects in the October 26, 2001 notice and the Zuni Tribe of the Zuni Reservation, New Mexico.

Representatives of any other Indian tribe that believes itself to be culturally affiliated with the human remains and associated funerary objects should contact Dr. Christina Kreps, University of Denver Museum of Anthropology, Sturm 146, Denver, CO 80208, telephone (303) 871-2688, before November 20, 2008. Repatriation of the human remains and associated funerary objects to the Zuni Tribe of the Zuni Reservation, New Mexico may proceed after that date if no additional claimants come forward.

The University of Denver Department of Anthropology and Museum of Anthropology is responsible for notifying the Colorado River Indian Tribes of the Colorado River Indian Reservation, Arizona and California; Hopi Tribe of Arizona; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico that this notice has been published.

Dated: October 6, 2008.
Sherry Hutt,
Manager, National NAGPRA Program.

[FR Doc. E8-24962 Filed 10-20-08; 8:45 am]

BILLING CODE 4312-50-S